DEPARTMENT OF HEALTH AND HUMAN SERVICES

Centers for Disease Control and Prevention

[60Day-08-08AU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessing Problem Areas in Referrals for Chronic Hematologic Malignancies and Developing Interventions to Address Them—New—Division of Cancer Prevention and Control (DCPC), National Center for Chronic Disease Prevention and Health Promotion (NCCDPHP), Centers for Disease Control and Prevention (CDC).

Background and Brief Description:One of the six aims of the Insitute of Medicine's Crossing the Quality Chasm report is to improve the timeliness of care for patients. Data from Europe and Canada, as well as single-site studies in the United States, allude to a problem of timely referral and diagnosis for patients with cancer. Despite the advent of new diagnostics and therapeutics for patients with chronic hematological malignancies, the size and scope of a potential problem regarding their referral from primary care providers to specialists is not well-defined in the current literature.

CDC proposes to conduct a one-time study to collect qualitative and quantitative information on optimal and sub-optimal referral patterns for patients with confirmed or suspected chronic hematologic malignancies. Information will be collected to identify specific factors related to delays in diagnosis and/or referral to appropriate medical specialists. Information will be collected through in-depth interviews with hematologic cancer patients, in-depth interviews and focus groups with primary care providers, interviews with specialists in hematology and oncology in Texas, and a one-time postal survey to a sample of primary care providers (physicians and advance practice nurses) in Massachusetts.

The ultimate goal is to develop tools that will improve the awareness, diagnosis, and referral of persons with chronic hematological cancers by primary care providers.

There are no costs to respondents other than their time.

Estimated Annualized Burden Hours
Type of respondents | Form name | Number of respondents | Number of responses per respondent | Average burden per response (in hours) | Total burden (in hours)
Community Oncologists/Hematologists | In-depth Interview Guide for Community Hematologists and Oncologists | 27 | 1 | 1.5 | 41
Patients | In-depth Interview Guide for Patients | 27 | 1 | 1.5 | 41
Primary Care Providers | Primary Care Provider Survey | 300 | 1 | 20/60 | 100
| Interview Guide for Primary Care Providers | 27 | 1 | 1.5 | 41
| Focus Group Guide for Primary Care Providers | 18 | 1 | 2 | 36
Total |  |  |  |  | 259

Dated: March 18, 2008.
Marilyn S. Radke,
Reports Clearance Officer, Centers for Disease Control and Prevention.

[FR Doc. E8-5859 Filed 3-21-08; 8:45 am]

BILLING CODE 4163-18-P